DEPARTMENT OF THE INTERIOR

Bureau of Land Management

[BLM_NV_FRN_MO#4500170433]

Notice of Intent To Prepare an Environmental Impact Statement and Potential Resource Management Plan Amendment for the Bonanza Solar Project in Clark and Nye Counties, Nevada

AGENCY: Bureau of Land Management, Interior.

ACTION: Notice of intent.

SUMMARY: The Bureau of Land Management (BLM) Nevada State Office intends to prepare an Environmental Impact Statement (EIS) and potential associated amendments to the 1998 Las Vegas Resource Management Plan (RMP) for the proposed solar development referred to as the Bonanza Solar Project. EDF Renewables Development Inc. is proposing to build the Bonanza Solar Project in Clark and Nye counties, Nevada. Publication of this notice initiates the scoping process and a 45-day public comment period to solicit public comments on the scope of the analysis, including issues and alternatives, and to solicit public comments on the planning criteria.

DATES: The BLM requests the public submit comments concerning the scope of the analysis, potential alternatives, and identification of relevant information, and studies by July 20, 2023. To afford the BLM the opportunity to consider issues raised by commenters in the Draft EIS, please ensure your comments are received prior to the close of the 45-day scoping period or 15 days after the last public meeting, whichever is later.

The BLM expects to hold a combination of virtual and in-person scoping meetings during the 45-day scoping period. The BLM will provide the public at least 15-days' notice prior to the workshops.

ADDRESSES: You may submit comments on issues related to the Bonanza Solar Project by any of the following methods:

• Website: https://eplanning.blm.gov/eplanning-ui/project/2020905/510.

• Email: Bonanzasolar@blm.gov.

• Mail: BLM, Nevada State Office, Attn: Renewable Energy Coordination Office, 1340 Financial Boulevard, Reno, Nevada 89502.

The website also contains available documents relevant to the planning process for the Bonanza Solar Project.

FOR FURTHER INFORMATION CONTACT: Brian Buttazoni, Planning & Environmental Specialist, telephone (775) 861-6491; address 1340 Financial Boulevard, Reno, NV 89502; email Bonanzasolar@blm.gov. Contact us at this email address to have your name added to our mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On December 1, 2020, EDF Renewables Development Inc. filed an Application for Transportation, Utility Systems, Telecommunications, and Facilities on Federal Lands and Property (Standard Form 299) and a preliminary Plan of Development (POD) with the BLM for a Federal Land Policy and Management Act of 1976 (FLPMA) right-of-way (ROW) authorization for the Bonanza Solar Project (NVN-100224). The requested ROW would be for the construction, operation and maintenance, and eventual decommissioning of a 300 megawatt (MW) alternating current solar photovoltaic power generating facility with a 300 MW battery energy storage system on approximately half of the 5,133-acre application area located approximately five miles west of Indian Springs in Clark and Nye counties, Nevada. Additionally, the application includes an approximately five and one-half mile gen-tie line that would tie into the existing GridLiance Innovation Substation. The proposed facilities would be located entirely on lands administered by the BLM.

The 5,133-acre application area is on lands identified as variance areas in the 2012 Western Solar Plan. The BLM has satisfied the requirements of the Western Solar Plan for evaluating this application through the variance process, including preliminary meetings and public outreach. On August 22, 2022, the BLM initiated a 30-day public input period for the variance process, which ended on September 22, 2022. During that period, the BLM hosted three virtual input sessions, one for agencies and Tribal Nations on September 1, 2022, and two for the public on September 7 and 8, 2023. The BLM received approximately 35 comments during the public input period. The BLM Director signed a variance concurrence memo in April 2023, which allowed the project to move forward with the environmental analysis.

On December 12, 2022, the BLM published a Notice of Land Segregation in the Federal Register, which segregated the lands within the application area from appropriation under the public land laws, including the Mining Law, but not the Mineral Leasing or Material Sales Acts, for a period of 2 years, subject to valid existing rights (87 FR 76081).

Purpose and Need for the Proposed Action

In compliance with the National Environmental Policy Act of 1969, as amended (NEPA), and FLPMA, the BLM intends to complete an EIS for this project. The BLM has also determined that it will be necessary to evaluate the need for Resource Management Plan Amendments (RMPA) for this project, and as a result the document will be a combined EIS/RMPA following the requirements of the BLM's land use planning regulations. The EIS/RMPA will consider amending the 1998 Las Vegas Resource Management Plan to evaluate whether the re-classification of visual resources management class iii to class iv is warranted, and whether the re-alignment of existing RMP corridors is warranted.

The BLM's preliminary purpose and need for this Federal action is to respond to a right-of-way application submitted by EDF Renewables Development Inc. under title V of FLPMA (43 U.S.C. 1761) to construct, operate, maintain, and eventually decommission a 300 MW alternating current solar photovoltaic power generating facility; a 300 MW battery energy storage system on approximately half of the 5,133-acre application area; and a five and one-half mile gen-tie line located approximately five miles west of Indian Springs in Clark and Nye Counties, Nevada, in compliance with FLPMA, the BLM right-of-way regulations, U.S. Department of the Interior NEPA regulations, and other applicable Federal and State laws and policies. In accordance with FLPMA, public lands are to be managed for multiple uses and sustained yield that consider the long-term needs of future generations for renewable and non-renewable resources. The BLM is authorized to grant ROWs on public lands for systems of generation, transmission, and distribution of electrical energy (section 501(a)(4)).

Planning criteria are the standards, rules, and other factors developed by managers and interdisciplinary team members for use in forming judgements about decision making, analysis, and data collection during the planning process. The BLM has identified some preliminary planning criteria to guide development of the RMP amendments, to avoid unnecessary data collection and analysis, and to ensure the RMP amendments are tailored to the issues. These criteria may be modified and/or other criteria may be identified during the public scoping process. The following preliminary specific planning criteria will help guide the planning process:

Criteria 1: The BLM will use a systematic interdisciplinary approach to integrate physical, biological, economic, and other sciences.

Criteria 2: The BLM will use the best available data regarding natural resources.

Criteria 3: The BLM will consider the present and potential uses of public lands, and where existing RMP decisions are valid, those decisions will remain unchanged.

Criteria 4: The BLM will consider the relative scarcity of values and availability of alternative means and sites for recognizing those values.

Criteria 5: Any plan amendments will be completed in compliance with FLPMA, NEPA, and all other relevant Federal laws, executive orders, and BLM polices.

Criteria 6: The BLM will seek coordination and consistency with other government programs including Tribal plans and policies.

Criteria 7: Existing land use planning decisions will not change unless specifically amended.

Criteria 8: Any RMP amendments will recognize valid existing rights.

Preliminary Proposed Action and Alternatives

The Proposed Action is to authorize a ROW to EDF Renewables Development Inc. to construct, operate, and eventually decommission the proposed solar project, including associated facilities, with the potential to generate 300 MW of alternating current energy on public lands.

Additional action alternatives have not been identified to date but would be developed by taking into consideration comments and input submitted during the public outreach process and public scoping.

Under the No Action Alternative, the BLM would not issue a ROW for the proposed solar project and associated facilities. The proposed project would not be constructed, and existing land uses in the application area would continue. Additionally, the BLM would not undertake a RMPA to evaluate the re-classification of visual resources management designations and re-alignment of RMP utility corridors.

The BLM welcomes comments on all preliminary alternatives as well as suggestions for additional reasonable alternatives.

Summary of Expected Impacts

The analysis in the EIS will be focused on the proposed solar project and associated facilities, including battery storage and transmission line construction. The BLM evaluated the proposed project application per the 43 CFR part 2800 application evaluation determination process. Through this process, the BLM gathered input from an interdisciplinary team of resource specialists pursuant to the requirements of the Western Solar Plan and completed public, agency, and tribal outreach during a 32-day input period. From the input received, the expected impacts from construction, operation, maintenance, and eventual decommissioning of the solar project, and associated facilities and the RMPA could include:

• Vegetation and soils.

• Threatened & endangered species, and Bureau sensitive species.

• Air quality and climate.

• Cultural and historical resources.

• Water resources.

• Access to public lands.

• Socioeconomics.

• Public health and safety.

Anticipated Permits and Authorizations

Along with a BLM ROW, as required under 43 CFR 2801.9, EDF Renewables Development Inc. anticipates needing the following authorizations and permits for the proposed project: Biological Opinion and Incidental Take Permit from the U.S. Fish and Wildlife Service; Section 404 Permit from U.S. Army Corps of Engineers; Wildlife Special Purpose permit from the Nevada Department of Wildlife; Temporary Discharge Permits and Working in Waterways Temporary Permit from the Nevada Division of Environmental Protection; Permit to Construct from the Nevada Public Utilities Commission; water rights modification permits from the Nevada Division of Water Resources; Hazardous Materials Storage permit from the Nevada State Fire Marshal; and Clark and Nye county permits, as necessary. Further details on these permitting requirements may be found in the POD which is available on the project website at: https://eplanning.blm.gov/eplanning-ui/project/2020905/510.

Schedule for the Decision-Making Process

The BLM will provide additional opportunities for public participation consistent with the NEPA and land use planning processes, including a 90-day comment period on the Draft EIS/RMPA and concurrent 30-day public protest period and 60-day Governor's consistency review on the Final EIS and Proposed RMPA. The Draft EIS/RMPA is anticipated to be available for public review in winter 2023, and the Final EIS and Proposed RMPA is anticipated to be available for public protest in spring 2024 with an Approved RMPA and Record of Decision (ROD) in the summer of 2024.

Public Scoping Process

This Notice of Intent initiates the scoping period, which guides the development and analysis of the Draft EIS/RMPA.

The BLM expects to hold two in-person scoping meetings and one virtual meeting. The specific date(s) and location(s) of any additional scoping meetings will be announced at least 15 days in advance through the project https://eplanning.blm.gov/eplanning-ui/project/2020905/510.

The purpose of the public scoping process is to determine relevant issues that will influence the scope of the environmental analysis, including alternatives and mitigation measures, and to guide the process for developing the EIS. Federal, State, and local agencies, along with other stakeholders that may be interested or affected by the BLM's decision on this project, are invited to participate in the scoping process and, if eligible, may request or be requested by the BLM to participate as a cooperating agency. The BLM encourages comments concerning the proposed Bonanza Solar Project and potential RMPA, possible measures to minimize and/or avoid adverse environmental impacts, and any other information relevant to the Proposed Action.

The BLM also requests assistance with identifying potential alternatives to the Proposed Action. As alternatives should resolve an issue with the Proposed Action, please indicate the purpose of the suggested alternative. In addition, the BLM requests the identification of potential issues that should be analyzed. Issues should be a result of the Proposed Action or alternatives; therefore, please identify the activity along with the potential issues.

Lead and Cooperating Agencies

The BLM Nevada State Office is the lead agency for this EIS and RMPA. The BLM has initially identified the following agencies and organizations as potential Cooperating Agencies to participate in the environmental analysis of the Project: Bureau of Indian Affairs, Department of the Air Force, Department of Defense, U.S. Environmental Protection Agency Region 9, U.S. Fish and Wildlife Service, Nevada Department of Transportation, Big Pine Paiute Tribe of Owens Valley, Bishop Paiute Tribe, Chemehuevi Indian Tribe, Colorado River Indian Tribes, Fort Independence Indian Community of Paiute Indians, Fort Mojave Indian Tribe, Kaibab Band of Paiute Indians, Las Vegas Paiute Tribe, Lone Pine Paiute-Shoshone Tribe, Moapa Band of Paiutes, Paiute Indian Tribe of Utah, San Juan Southern Paiute Tribe, Timbisha Shoshone Tribe, Twenty-Nine Palms Band of Mission Indians, Utu Utu Gwaitu Paiute Tribe, Nevada Department of Wildlife, Nevada Division of Environmental Protection, Nevada Division of Minerals, Nevada Division of State Lands, Clark County, and Nye County. Additional agencies and organizations may be identified as potential Cooperating Agencies to participate in the environmental analysis of the Project.

Responsible Official

The Nevada State Director is the deciding official for the proposed Bonanza Solar Project.

Interdisciplinary Team

The BLM will use an interdisciplinary approach to develop the EIS to consider the variety of resource issues and concerns identified. Specialists with expertise in the following disciplines will be involved in this process: air quality, archaeology, botany, climate change (greenhouse gases), environmental justice, geology/mineral resources, hydrology, invasive/non-native species, lands and realty, public health and safety, recreation, socioeconomics, soils, visual resources, and wildlife.

Additional Information

The BLM will identify, analyze, and consider mitigation to address the reasonably foreseeable impacts to resources from all analyzed reasonable alternatives and, in accordance with 40 CFR 1502.14(e), include appropriate mitigation measures not already included in the proposed alternatives. Mitigation may include avoidance, minimization, rectification, reduction or elimination over time, and compensation, and may be considered at multiple scales, including the landscape scale.

The BLM will utilize the NEPA process to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed project will assist the BLM in identifying and evaluating impacts to such resources.

The BLM will consult with Indian Tribal Nations on a government-to-government basis in accordance with Executive Order 13175, BLM Manual Section 1780, and other policies. Tribal concerns, including impacts on Indian trust assets and potential impacts to cultural resources, will be given due consideration. Federal, State, and local agencies, along with Indian Tribal Nations, and other stakeholders that may be interested in or affected by the proposed action that the BLM is evaluating, are invited to participate in the scoping process and, if eligible, may request or be requested by the BLM to participate in the development of the environmental analysis as a cooperating agency. The BLM intends to hold government-to-government consultation meetings. The BLM will send invitations to potentially affected Indian Tribal Nations prior to the meetings. The BLM will provide additional opportunities for government-to-government consultation during the NEPA process.

Nature of Decision To Be Made

The BLM will decide whether to grant, grant with conditions, or deny the ROW application. Pursuant to 43 CFR 2805.10, if the BLM issues a ROW, the BLM decision maker may include terms, conditions, and stipulations determined to be in the public interest. The BLM will make the decision as to whether or not to approve any RMP amendments, in accordance with BLM policy about delegation of authorities. In the ROD, the BLM will clearly distinguish the RMPA decision from the selected alternative for the proposed solar development project.

Personal Identifying Information

Before including your address, phone number, email address, or other personal identifying information in your comment, you should be aware that your entire comment—including your personal identifying information—may be made publicly available at any time. While you can ask us in your comment to withhold your personal identifying information from public review, we cannot guarantee that we will be able to do so. Comments submitted anonymously will be accepted and considered.

It is important that reviewers provide their comments at such times and in such manner that they are useful to the agency's preparation of the EIS. Therefore, comments should be provided prior to the close of the public scoping period and should clearly articulate the reviewer's concerns.

(Authority: 40 CFR 1501.7 and 43 CFR part 2800.)

Christopher Bush,
Acting Nevada State Director.

[FR Doc. 2023-11872 Filed 6-2-23; 8:45 am]

BILLING CODE 4331-21-P